DEPARTMENT OF DEFENSE

Office of the Secretary

[Docket ID: DoD-2016-OS-0006]

Privacy Act of 1974; System of Records

AGENCY: National Guard Bureau, DoD.

ACTION: Notice to add a new system of records.

SUMMARY: The National Guard Bureau proposes to add a new system of records, INGB 005, entitled “Special Investigation Reports and Files”. Information is collected and maintained for the purpose of conducting investigations on allegations of sexual assault, fraud, or other complex incidents involving National Guard forces when requested by an Adjutant General of a State, Territory, or the District of Columbia or by other appropriate authority and approved IAW Chief of the National Guard Bureau authorities and policy.

DATES: Comments will be accepted on or before February 26, 2016. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jennifer Nikolaisen, NGB/JA-OIP, AHS-Bldg 2, Suite T319B, 111 South George Mason Drive, Arlington, VA 22204-1373 or telephone: (703) 601-6884.

SUPPLEMENTARY INFORMATION: The National Guard Bureau notices for systems of records subject to the Privacy Act of 1974 (5 U.S.C. 552a), as amended, have been published in the Federal Register and are available from the address in FOR FURTHER INFORMATION CONTACT or from the Defense Privacy and Civil Liberties Division Web site at http://dpcld.defense.gov/ The proposed system report, as required by 5 U.S.C. 552a(r) of the Privacy Act of 1974, as amended, was submitted on December 15, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 21, 2016.
Aaron Siegel,
Alternate OSD Federal Register Liaison Officer, Department of Defense.

INGB 005

System name:

Special Investigation Reports and Files.

System location:

National Guard Bureau (NGB), Office of the Chief Counsel (JA), Office of Complex Investigations (OCI), AHS-Bldg 2, Suite T319B, 111 South George Mason Drive, Arlington, VA 22204-1373.

Categories of individuals covered by the system:

Current and former civilian, military, or contract personnel and members of the public who make allegations or reports that are investigated by the NGB OCI, the subjects of such investigation and relevant witnesses to such an investigation.

Categories of records in the system:

Investigative files and reports to include assigned investigation number, date of investigation, request from State Adjutant General to conduct an investigation, documented findings and conclusions, an executive summary, witness statements, results from witness interviews, including name, home/work address and contact information, and other Personally Identifiable Information that a witness may provide during an interview, but is not routinely collected or used to retrieve information; audio or video recorded interviews and interview summations; supporting documentation and evidence gathered while conducting the investigation; investigative reports of Federal, state, and local law enforcement agencies; local command investigations; general correspondence; legal research and memoranda; personnel and medical records; case tracking programs and files; and forms to comply with the DoD Sexual Assault Prevention and Response Program; information regarding actions taken by commands after receipt of an OCI Report of Investigation (ROI), including disciplinary actions and other actions taken in response to an ROI; information concerning allegations of reprisal or retaliation for making a complaint of sexual assault, or participating in investigations of sexual assault; information pertaining to retaliation or reprisal for making any other type of complaint or cooperating with an OCI investigation.

Authority for maintenance of the system:

10 U.S.C. 10502, Chief of the NGB; 10 U.S.C. 10503, Functions of the NGB; DoD Directive 5105.77, NGB; DoD Directive 6495.01, Sexual Assault Prevention and Response (SAPR) Program; DoD Instruction 6495.02, Sexual Assault Prevention and Response Program Procedures; Chief NGB Instruction 0400.01, Chief, NGB Office of Complex Administrative Investigations; Chief NGB Manual 0400.01, Chief, NGB Office of Complex Administrative Investigations; and E.O. 9397 (SSN), as amended.

Purpose(s):

Information is being collected and maintained for the purpose of conducting investigations on allegations of sexual assault, fraud, or other complex incidents involving National Guard forces when requested by an Adjutant General of a State, Territory, or the District of Columbia or by other appropriate authority and approved in accordance with Chief of the NGB authorities and policy.

Routine uses of records maintained in the system, including categories of users and the purposes of such uses:

In addition to those disclosures generally permitted under the Privacy Act (5 U.S.C. 552a(b)) the records may specifically be disclosed outside the DoD as a routine use pursuant to 5 U.S.C. 552a(b)(3) as follows:

Records may be disclosed to state officials in the state or states that requested the investigation be conducted or which have any criminal or administrative jurisdiction over individuals impacted by the investigation.

To Federal, state, local agency or an individual or organization, if there is reason to believe that such agency, individual or organization possesses information relating to the investigation and the disclosure is reasonably necessary to elicit such information or to obtain the cooperation of a witness or an informant.

To attorney or other professional or job-specific licensing, accreditation, and/or disciplinary authorities as required to support relevant investigations and proceedings.

Any release of information contained in this system of records outside of DoD will be compatible with the purposes for which the information is being collected and maintained.

The DoD Blanket Routine Uses set forth at the beginning of the NGB's compilation of systems of records notices may apply to this system. The complete list of DoD blanket routine uses can be found online at: http://dpcld.defense.gov/Privacy/SORNsIndex/BlanketRoutineUses.aspx.

Policies and practices for storing, retrieving, accessing, retaining, and disposing of records in the system:

Storage:

Paper records and electronic storage media.

Retrievability:

Retrieved by individual's name and/or investigation number.

Safeguards

Paper and electronic records are maintained in security-controlled areas accessible only to authorized persons with a need to know in the performance of official duties.

Retention and disposal:

Records are pending a disposition from the National Archives and Records Administration (NARA). Records will be treated as permanent until NARA approves a retention and disposition of these records.

System manager(s) and address:

NGB/JA-OCI, AHS-Bldg 2, Suite T319B, 111 South George Mason Drive, Arlington, VA 22204-1373.

Notification procedure:

Individuals seeking to determine whether information about themselves is contained in this system should address written inquiries to NGB/JA-OIP Attn: OCI PA Request, AHS-Bldg 2, Suite T319B, 111 South George Mason Drive, Arlington, VA 22204-1373.

Written requests must include the requester's name and full mailing address they want the response sent to along with as much detail as known regarding the following: The investigation number, approximate date of the investigation, and name of state or State Adjutant General that requested the investigation.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves should address written inquiries to NGB/JA-OIP Attn: OCI PA Request, AHS-Bldg 2, Suite T319B, 111 South George Mason Drive, Arlington, VA 22204-1373.

Written requests must include the requester's name and full mailing address they want the response sent to along with as much detail as known regarding the following: The investigation number, approximate date of the investigation, and name of state or State Adjutant General that requested the investigation.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The NGB rules for accessing records, and for contesting contents and appealing initial agency determinations are published at 32 CFR part 329 or may be obtained from the system manager.

Record source categories:

Reported perpetrators/subjects; witnesses; victims; various Department of Defense, federal, state, and local investigative agencies; State National Guard offices; any other individual or organization that supplies pertinent information.

Exemptions claimed for the system:

Parts of this system may be exempt pursuant to 5 U.S.C. 552a(k)(2); provided, however, if any individual is denied any right, privilege, or benefit that he would otherwise be entitled by Federal law, or for which he would otherwise be eligible, as a result of the maintenance of such material, such material shall be provided to such individual, except to the extent that the disclosure of such material would reveal the identity of a source who furnished information to the Government under an express promise that the identity of the source would be held in confidence, or, prior to the effective date of this section [September 27, 1975], under an implied promise that the identity of the source would be held in confidence.

An exemption rule for this system has been promulgated in accordance with requirements of 5 U.S.C. 553(b)(1), (2), and (3),(c), and (e) and published in 32 CFR part 329. For additional information contact the system manager or the NGB Privacy Office.

[FR Doc. 2016-01517 Filed 1-26-16; 8:45 am]

BILLING CODE 5001-06-P